DEPARTMENT OF STATE

[Public Notice 10807]

60-Day Notice of Proposed Information Collection: U.S. Passport Renewal Application for Eligible Individuals

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to September 10, 2019.

ADDRESSES: You may submit comments by any of the following methods:

• Web: Persons with access to the internet may comment on this notice by going to www.Regulations.gov. You can search for the document by entering “Docket Number: DOS-2019-0023” in the Search field. Then click the “Comment Now” button and complete the comment form.

• Email: PPTFormsOfficer@state.gov.

• Regular Mail: Send written comments to: PPT Forms Officer, U.S. Department of State, CA/PPT/S/PMO, 44132 Mercure Cir., P.O. Box 1199, Sterling, VA 20166-1199.

SUPPLEMENTARY INFORMATION:

• Title of Information Collection: U.S. Passport Renewal Application for Eligible Individuals.

• OMB Control Number: 1405-0020.

• Type of Request: Revision of a Currently Approved Collection.

• Originating Office: Bureau of Consular Affairs, Passport Services (CA/PPT).

• Form Number: DS-0082.

• Respondents: Individuals or Households.

• Estimated Number of Respondents: 6,451,667.

• Estimated Number of Responses: 6,451,667.

• Average Time per Response: 40 minutes

• Total Estimated Burden Time: 4,301,111 hours per year.

• Frequency: On occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond including the use of automated collection techniques or other forms of information technology.

Please note that comments submitted in response to this Notice are public record. Before including any detailed personal information, you should be aware that your comments as submitted, including your personal information will be available for public review.

Abstract of Proposed Collection

The U.S. Passport Renewal Application for Eligible Individuals (Form DS-82) is used by eligible citizens and non-citizen nationals (hereinafter, collectively referred to as “nationals”) of the United States who need to renew their current or recently-expired U.S. passport (a travel document attesting to one's identity and U.S. nationality).

Methodology

Passport Services collects information from U.S. citizens and non-citizen nationals when they complete and submit the DS-82, “U.S. Passport Renewal Application for Eligible Individuals.”. Passport applicants can either download the DS-82 from the internet or obtain the form from an Acceptance Facility/Passport Agency. The form must be completed, signed, and be submitted by mail (or in person at Passport Agencies domestically or embassies/consulates overseas).

Rachel M. Arndt,
Deputy Assistant Secretary for Passport Services.

[FR Doc. 2019-14786 Filed 7-11-19; 8:45 am]

BILLING CODE 4710-06-P